DEPARTMENT OF ENERGY

Federal Energy Regulatory Commission

[Docket No. CP21-113-000]

Alliance Pipeline, L.P.; Notice of Availability of the Final Environmental Impact Statement for the Proposed Three Rivers Interconnection Project

The staff of the Federal Energy Regulatory Commission (FERC or Commission) has prepared a final environmental impact statement (EIS) for the Three Rivers Interconnection Project (Project), proposed by Alliance Pipeline, L.P. (Alliance) in the above-referenced docket. Alliance proposes to construct and operate about 2.9 miles of 20-inch-diameter natural gas transmission pipeline and associated facilities in Grundy County, Illinois. This pipeline would connect Alliance's existing interstate natural gas transmission system to Competitive Power Venture's Three Rivers Energy Center, currently under construction; and as proposed, would transport up to 210 million standard cubic feet per day of natural gas to this facility. According to Alliance, the Project is necessary to provide Competitive Power Venture's Three Rivers Energy Center with access to an additional natural gas supply source.

The final EIS assesses the potential environmental effects of the construction and operation of the Project in accordance with the requirements of the National Environmental Policy Act (NEPA). The FERC staff concludes that approval of the proposed Project, with the mitigation measures recommended in the EIS, would result in some adverse environmental impacts, but none that are considered significant. Regarding climate change impacts, this EIS is not characterizing the Project's greenhouse gas emissions as significant or insignificant because the Commission is conducting a generic proceeding to determine whether and how the Commission will conduct significance determinations going forward.¹ The EIS also concludes that no system, route, or other alternative would meet the Project objective while providing a significant environmental advantage over the Project as proposed.

¹ Consideration of Greenhouse Gas Emissions in Natural Gas Infrastructure Project Reviews, 178 FERC ¶ 61,108 (2022); 178 FERC ¶ 61,197 (2022).

The U.S. Environmental Protection Agency (EPA) and the U.S. Nuclear Regulatory Commission (NRC) participated as cooperating agencies in the preparation of the EIS. Specifically, the EPA provided FERC environmental staff with recommendations to inform the EIS and the NRC advised FERC environmental staff concerning nuclear safety reviews and the associated regulatory process with respect to Alliance's proposal and the nearby Dresden Nuclear Generating Station and General Electric Hitachi Nuclear Energy Morris Independent Spent Fuel Storage Installation. Cooperating agencies have jurisdiction by law or special expertise with respect to resources potentially affected by the proposal and participate in the NEPA analysis.

The Commission mailed a copy of the Notice of Availability of the Final Environmental Impact Statement for the Proposed Three Rivers Interconnection Project to federal, state, and local government representatives and agencies; elected officials; environmental and public interest groups; Indian tribes; potentially affected landowners and other interested individuals and groups; and newspapers and libraries in the Project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search) select “General Search” and enter the docket number in the “Docket Number” field (i.e., CP21-113-000). Be sure you have selected an appropriate date range. For assistance, please contact FERC Online Support at FercOnlineSupport@ferc.gov or toll free at (866) 208-3676, or for TTY, contact (202) 502-8659.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: January 13, 2023.
Kimberly D. Bose,
Secretary.

[FR Doc. 2023-01062 Filed 1-19-23; 8:45 am]

BILLING CODE 6717-01-P